DEPARTMENT OF AGRICULTURE

Forest Service

Herger-Feinstein Quincy Library Forest Recovery Plan Amendment

AGENCY: Forest Service, USDA.

ACTION: Revised notice of intent to prepare a final supplemental environmental impact statement.

SUMMARY: The Department of Agriculture, Forest Service, Lassen National Forest, Plumas National Forest, and Tahoe National Forest will prepare a supplemental environmental impact statement (EIS) in response to a recent United States District Court Decision in Californians for Alternatives to Toxics v. Michael Dombeck No. Civ. S-00-605 LKK/PAN. This supplemental EIS will address maintenance of defensible fuels profile zones (DFPZs) in the Herger-Feinstein Quincy Library Forest Recovery Act Pilot Project Area.

The Notice of Intent to prepare an Environmental Impact Statement was published in the Federal Register/Vol 66, No. 15, page 42625 on Tuesday, August 14, 2001. The Notice announced that a supplemental draft environmental impact statement was expected to be available for public review and comment in October 2001, and a final environmental impact statement in January 2002. The Notice of Availability of the Draft Supplement was published in the Federal Register/Vol 66, No. 194, page 51036 on Friday, October 5, 2001. The Final Supplement is now expected to be available in October 2002.

FOR FURTHER INFORMATION CONTACT: Theresa Frolli, Team Leader, USDA Forest Service, Lassen National Forest, 2550 Riverside Dr. Susanville, CA 97130. Phone number (530) 257-2151.

Dated: July 2, 2002.
Edward C. Cole,
Forest Supervisor, Lassen National Forest.

[FR Doc. 02-17305 Filed 7-9-02; 8:45 am]

BILLING CODE 3410-11-M